DEPARTMENT OF JUSTICE

[AAG/A Order No. 015-2004]

Privacy Act of 1974; System of Records

The Department of Justice (DOJ) proposes to modify the Privacy Act notice on “Personnel Investigation and Security Clearance Records for the Department of Justice, DOJ-006, “ last published on September 24, 2002 (67 FR 59864). The modified notice reflects the addition of the Bureau of Alcohol, Tobacco, Firearms and Explosives to the DOJ and deletes references to the Immigration and Naturalization Service which was placed in the new Department of Homeland Security. In addition, several minor changes are made to update and correct the notice. These minor changes do not require a comment period or notification to the Office of Management and Budget and the Congress. The modifications will be effective November 10, 2004. Questions regarding the modifications may be directed to Mary Cahill, Management Analyst, Management and Planning Staff, Justice Management Division, Room 1400 National Place Building, Department of Justice, Washington, DC 20530.

The modifications to the notice are set forth below.

Dated: November 3, 2004.
Paul R. Corts,
Assistant Attorney General for Administration.

JUSTICE/DOJ-006

System Name:

Personnel Investigation and Security Clearance Records for the Department of Justice

[Insert after System Name the following heading.]

System Classification: Not classified.

* * * * *

Categories of Records in the System:

* * * * *

[On line 15 of the last Federal Register publication, insert (OPM) so that the line reads as follows:]

* * * the Office of Personnel Management (OPM), the * * *

* * * * *

Routine Uses of Records Maintained in the System, Including Categories of Users and the Purposes of Such Uses:

[On line 3 of the last Federal Register publication, delete Federal Bureau of Investigation and insert instead the following:]

* * * or FBI * * *

* * * * *

[Delete current routine use (l) and insert the following instead:]

(l) The National Archives and Records Administration in records management inspections conducted under the authority of 44 U.S.C. 2904 and 2906.

* * * * *

[Insert after Routine Uses the following heading:]

Disclosure to Consumer Reporting Agencies:

As stated in the “Categories of Records in the System,” Item (4).

* * * * *

System Manager(s) and Addresses:

[Delete the current text of this section and replace it with the following:]

For records regarding former and current personnel and contractors employed by the Offices, Boards, or Divisions (OBDs) as well as records regarding all Department attorneys, interns, honor program applicants, Schedule C personnel, non-career SES appointments, Presidential appointees, non-Departmental Federal Government personnel and ARC appeals for OBDs, contact: Director, Security and Emergency Planning Staff, Attention: Assistant Director Personnel Security Group, Justice Management Division, U.S. Department of Justice, 20 Massachusetts Avenue, NW., Washington, DC 20530.

For records regarding former and current Bureau non-attorney personnel not specifically listed above and contractors, contact the individual Bureaus:

Security Programs Manager, Drug Enforcement Administration, 700 Army Navy Drive, Arlington, VA 22202.

Security Programs Manager, Federal Bureau of Prisons, 320 First Street, NW., Washington, DC 20543.

Security Programs Manager, Bureau of Alcohol, Tobacco, Firearms and Explosives, 650 Massachusetts Ave., NW., Room 2240, Washington, DC 20226.

Security Programs Manager, Federal Bureau of Investigation, 935 Pennsylvania Avenue, NW., Washington, DC 20535.

Security Programs Manager, United States Marshals Service, United States Marshals Service Headquarters, Washington, DC 20530-1000.

Security Programs Manager, Executive Office for U.S. Trustees, 20 Massachusetts Avenue, NW., Room 8202, Washington, DC 20530.

Security Programs Manager, National Drug Intelligence Center, 319 Washington Street, Johnstown, PA 15901.

* * * * *

Record Access Procedures:

[Delete first paragraph and insert the following:]

A request for access to a record from this system shall be made in writing to the System Manager, or in the case of the Federal Bureau of Prisons records, to the FOIA/PA Section, with the envelope and the letter clearly marked “Privacy Act Request.” The request should include a general description of the records sought and must include the requester's full name, current address, social security number, and date and place of birth. The request must be signed, dated, and either notarized or submitted under penalty of perjury. Some information may be exempt from access provisions as described in the section entitled “System Exempted from Certain Provisions of the Act.” An individual who is the subject of a record in this system may access those records that are not exempt from disclosure. A determination whether a record may be accessed will be made at the time a request is received. * * *

* * * * *

[FR Doc. 04-25055 Filed 11-9-04; 8:45 am]

BILLING CODE 4410-FB-P